FEDERAL COMMUNICATIONS COMMISSION

[CC Docket No. 96-45; DA 02-570]

Commission Seeks Comment on BT North America, Inc.'s Expedited Petition for Clarification of the Contribution Obligations of Video Distribution Service Providers

AGENCY: Federal Communications Commission.

ACTION: Notice; solicitation of comments.

SUMMARY: This document seeks comments on BT North America, Inc. Petition for Clarification of the universal service contribution obligations of non-common carrier video distribution service providers. Specifically, BT North America asks the Commission to clarify that similarly situated entities transmitting video programming on a non-common carrier basis, that do not compete with common carriers, should be exempted from contributing on the basis of revenues derived from these services.

DATES: Comments are due on or before April 9, 2002. Reply comments are due on or before April 19, 2002.

ADDRESSES: See SUPPLEMENTARY INFORMATION section for where and how to file comments.

FOR FURTHER INFORMATION CONTACT: Paul Garnett, Attorney, Accounting Policy Division, Common Carrier Bureau, (202) 418-7400, TTY: (202) 418-0484.

SUPPLEMENTARY INFORMATION: On February 6, 2002, BT North America, Inc. (BT North America) filed a Petition for Clarification of the universal service contribution obligations of non-common carrier video distribution service providers. Specifically, BT North America asks the Commission to clarify that similarly situated entities transmitting video programming on a non-common carrier basis, that do not compete with common carriers, should be exempted from contributing on the basis of revenues derived from these services. Universal service contributions are based on a contributor's interstate and international revenues derived from domestic end users for telecommunications or telecommunications services. The Commission has previously stated that, consistent with section 254(d) of the Act, open video systems, cable leased access, and direct broadcast satellite (DBS) providers must contribute to universal service for revenues derived from the provision of interstate telecommunications services, but are not required to contribute for revenues derived from interstate telecommunications. We also note that broadcasters are not required to contribute to universal service.

BT North America asserts that the Commission's rationale for these exemptions should apply equally to its operations as well as other similarly situated entities. BT North America's Broadcast Division provides “occasional use” and “full time” broadcast services, including uplink, downlink, and transport portions of video transmission services. BT North America asserts that it does not compete with common carriers. Rather, BT North America argues that its competitors include other providers of satellite video transmission, broadcasters, DBS operators, and cable operators. We seek comment on this petition.

Pursuant to §§ 1.415 and 1.419 of the Commission's rules, interested parties may file comments are due on or before April 9, 2002 and reply comments are due on or before April 19, 2002. Comments may be filed using the Commission's Electronic Comment Filing System (ECFS) or by filing paper copies. See Electronic Filing of Documents in Rulemaking Proceedings, (63 FR 24121, May 1, 1998). Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit electronic comments by Internet e-mail. To receive filing instructions for e-mail comments, commenters should send an e-mail to ecfs@fcc.gov, and should include the following words in the body of the message, “get form <your e-mail address>.” A sample form and directions will be sent in reply. Parties who choose to file by paper must file an original and four copies of each filing. If more than one docket or rulemaking number appears in the caption of this proceeding, commenters must submit two additional copies for each additional docket or rulemaking number. All filings must be sent to the Commission's Acting Secretary, William Caton, Office of the Secretary, Federal Communications Commission, 445 12th Street, SW., Washington, DC 20554.

Parties also must send three paper copies of their filing to Sheryl Todd, Accounting Policy Division, Common Carrier Bureau, Federal Communications Commission, 445 12th Street SW., Room 5-A422, Washington, DC 20554. In addition, commenters must send diskette copies to the Commission's copy contractor, Qualex International, Portals II, 445 12th Street, SW., Room CY-B402, Washington, DC 20554.

Pursuant to § 1.1206 of the Commission's rules, this proceeding will be conducted as a permit-but-disclose proceeding in which ex parte communications are permitted subject to disclosure.

Dated: March 13, 2002.
Katherine L. Schroder,
Chief, Accounting Policy Division.

[FR Doc. 02-6526 Filed 3-18-02; 8:45 am]

BILLING CODE 6712-01-P